DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: State Targeted Response to the Opioid Crisis Grant Program Reports—NEW

The Substance Abuse and Mental Health Services Administration (SAMHSA) is authorized under Section 1003 of the 21st Century Cures Act, as amended, to support a grant program, for up to 2 years, that addresses the supplemental activities pertaining to opioids currently undertaken by the state agency or territory and will support a comprehensive response to the opioid epidemic. The State Targeted Response to the Opioid Crisis Grant (Opioid STR) program addresses Healthy People 2020, Substance Abuse Topic Area HP 2020-SA. The primary purpose of Opioid STR is to address the opioid crisis by increasing access to treatment, reducing unmet treatment need, and reducing opioid overdose related deaths through the provision of prevention, treatment and recovery activities for opioid use disorder (OUD) (including prescription opioids as well as illicit drugs such as heroin).

There are 57 (states and jurisdictions) award recipients in this program. All funded states and jurisdictions will be asked to report on their implementation and performance through an online data collection system. Award recipients will report performance on the following measures specific to this program: Number of people who receive OUD treatment, number of people who receive OUD recovery services, number of providers implementing medication-assisted treatment, and the number of OUD prevention and treatment providers trained, to include NPs, PAs, as well as physicians, nurses, counselors, social workers, case managers, etc. This information will be collected at the mid-point and conclusion of each grant award year.

Additionally, each award recipient will describe the purposes for which the grant funds received were expended and the activities under the program, and the ultimate recipients of amounts provided to the grantee in the grants.

Annualized Estimated Burden Hours for the Progress Report
Respondent | Number of respondents | Number of responses per respondent | Total responses | Average burden per response (in hours) | Total burden hours
State and Jurisdictions | 57 | 2 | 114 | 8.0 | 912

Link for the tables:

https://www.samhsa.gov/sites/default/files/grants/pdf/ti-17-014-tables.pdf

Written comments and recommendations concerning the proposed information collection should be sent by August 7, 2017 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2017-14104 Filed 7-5-17; 8:45 am]

BILLING CODE 4162-20-P